SECURITIES AND EXCHANGE COMMISSION

[File No. 500-1]

In the Matter of AdAl Group, Inc., Com/Tech Communications Technologies, Inc., Dialog Group, Inc., Eurogas, Inc., Golden Books Family Entertainment, Inc. (n/k/a GB Holdings Liquidation, Inc.), Information Management Technologies Corporation, Interiors, Inc., and SFG Financial Corp.; Order of Suspension of Trading

March 9, 2011.

It appears to the Securities and Exchange Commission that there is a lack of current and accurate information concerning the securities of AdAl Group, Inc. because it has not filed any periodic reports since the period ended September 30, 2005.

It appears to the Securities and Exchange Commission that there is a lack of current and accurate information concerning the securities of Com/Tech Communications Technologies, Inc. because it has not filed any periodic reports since the period ended December 31, 1996.

It appears to the Securities and Exchange Commission that there is a lack of current and accurate information concerning the securities of Dialog Group, Inc. because it has not filed any periodic reports since the period ended September 30, 2007.

It appears to the Securities and Exchange Commission that there is a lack of current and accurate information concerning the securities of Eurogas, Inc. because its Forms 10-K for the periods ended December 31, 2007, 2008 and 2009 failed to include audited financial statements and its Forms 10-Q for the interim periods from March 31, 2007 through September 30, 2010, inclusive, were not reviewed by an independent auditing firm, as required by Commission rules.

It appears to the Securities and Exchange Commission that there is a lack of current and accurate information concerning the securities of Golden Books Family Entertainment, Inc. (n/k/a GB Holdings Liquidation, Inc.) because it has not filed any periodic reports since the period ended March 31, 2001.

It appears to the Securities and Exchange Commission that there is a lack of current and accurate information concerning the securities of Information Management Technologies Corporation because it has not filed any periodic reports since the period ended June 30, 1999.

It appears to the Securities and Exchange Commission that there is a lack of current and accurate information concerning the securities of Interiors, Inc. because it has not filed any periodic reports since the period ended March 31, 2002.

It appears to the Securities and Exchange Commission that there is a lack of current and accurate information concerning the securities of SFG Financial Corp. because it has not filed any periodic reports since the period ended January 31, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 9, 2011, through 11:59 p.m. EDT on March 22, 2011.

By the Commission.
Jill M. Peterson,
Assistant Secretary.

[FR Doc. 2011-5802 Filed 3-9-11; 4:15 pm]

BILLING CODE 8011-01-P